DEPARTMENT OF ENERGY

Federal Energy Regulatory Commission

Combined Notice of Filings

July 3, 2008.

Take notice that the Commission has received the following Natural Gas Pipeline Rate and Refund Report filings:

Docket Numbers: RP96-200-193.

Applicants: CenterPoint Energy Gas Transmission Co.

Description: CenterPoint Energy Gas Transmission Company submits negotiated rate agreements between CEGT and Petrohawk Energy Corporation.

Filed Date: 07/01/2008.

Accession Number: 20080702-0224.

Comment Date: 5:00 p.m. Eastern Time on Monday, July 14, 2008.

Docket Numbers: RP96-200-194.

Applicants: CenterPoint Energy Gas Transmission Co.

Description: CenterPoint Energy Gas Transmission Company submits two negotiated rate agreements between CEGT and Chesapeake Energy, Inc.

Filed Date: 07/01/2008.

Accession Number: 20080702-0223.

Comment Date: 5:00 p.m. Eastern Time on Monday, July 14, 2008.

Docket Numbers: RP96-383-087.CP07-10-002.

Applicants: Dominion Transmission, Inc.

Description: Dominion Transmission, Inc submits Eighth Revised Sheet 36 et al in its FERC Gas Tariff, Third Revised Volume 1.

Filed Date: 07/01/2008.

Accession Number: 20080702-0299.

Comment Date: 5:00 p.m. Eastern Time on Monday, July 14, 2008.

Docket Numbers: RP99-176-164.

Applicants: Natural Gas Pipeline Company of America.

Description: Natural Gas Pipeline Company of America's First Revised Sheet 33G.01 to FERC Gas Tariff, Seventh Revised Volume 1, & an amendment to the Firm Transportation Service Negotiated Rate Agreement with Interstate Power & Light Co.

Filed Date: 07/02/2008.

Accession Number: 20080703-0065.

Comment Date: 5:00 p.m. Eastern Time on Monday, July 14, 2008.

Docket Numbers: RP99-301-210.

Applicants: ANR Pipeline Company.

Description: ANR Pipeline Company submits an amendment to one Rate Schedule FSS negotiated rate agreement between ANR and Tenaska Marketing Ventures.

Filed Date: 07/01/2008.

Accession Number: 20080702-0222.

Comment Date: 5:00 p.m. Eastern Time on Monday, July 14, 2008.

Docket Numbers: RP99-301-211.

Applicants: ANR Pipeline Company.

Description: ANR Pipeline Company submits an amendment to one Rate Schedule FTS-1 negotiated rate agreement between ANR and Wisconsin Public Service Corporation.

Filed Date: 07/01/2008.

Accession Number: 20080702-0221.

Comment Date: 5:00 p.m. Eastern Time on Monday, July 14, 2008.

Docket Numbers: RP08-432-000.

Applicants: MIGC LLC.

Description: MIGC LLC submits First Revised Sheet 2 et al to FERC Gas Tariff, Second Revised Volume 1, to be effective 4/1/08.

Filed Date: 07/01/2008.

Accession Number: 20080702-0265.

Comment Date: 5:00 p.m. Eastern Time on Monday, July 14, 2008.

Docket Numbers: RP08-433-000.

Applicants: Eastern Shore Natural Gas Company.

Description: Eastern Shore Natural Gas Co submits Sixty-Sixth Revised Sheet 7 et al to FERC Gas Tariff, Second Revised Volume 1, to be effective 4/1/08.

Filed Date: 07/01/2008.

Accession Number: 20080702-0264.

Comment Date: 5:00 p.m. Eastern Time on Monday, July 14, 2008.

Docket Numbers: RP08-434-000.

Applicants: Texas Eastern Transmission LP.

Description: Texas Eastern Transmission, LP submits Twenty-Seventh Revised Sheet 25 et al to FERC Gas Tariff, Seventh Revised Volume 1 and First Revised Volume 2, to be effective 8/1/08.

Filed Date: 07/01/2008.

Accession Number: 20080702-0266.

Comment Date: 5:00 p.m. Eastern Time on Monday, July 14, 2008.

Docket Numbers: RP08-435-000.

Applicants: Dominion Transmission, Inc.

Description: Report of Annual Overrun/Penalty Revenue Distribution of Dominion Transmission, Inc.

Filed Date: 07/01/2008.

Accession Number: 20080701-5126.

Comment Date: 5:00 p.m. Eastern Time on Monday, July 14, 2008.

Docket Numbers: RP08-438-000.

Applicants: WTG Hugoton, LP.

Description: WTG Hugoton, LP submits Original Volume 1 et al effective 8/1/08.

Filed Date: 07/01/2008.

Accession Number: 20080702-0300.

Comment Date: 5:00 p.m. Eastern Time on Monday, July 14, 2008.

Docket Numbers: RP08-439-000.

Applicants: Questar Southern Trails Pipeline Company.

Description: Questar Southern Trails Pipeline Company submits Third Revised Sheet 6 to FERC Gas Tariff, Original Volume 1.

Filed Date: 07/01/2008.

Accession Number: 20080703-0066.

Comment Date: 5:00 p.m. Eastern Time on Monday, July 14, 2008.

Docket Numbers: RP08-440-000.

Applicants: Questar Pipeline Company.

Description: Questar Pipeline Company submits Forty-Fourth Revised Sheet 5 to FERC Gas Tariff, First Revised Volume 1 and Forty-Sixth Revised Sheet 8 to FERC Gas Tariff, Original Volume 3, effective 8/1/08 under RP08-440.

Filed Date: 07/02/2008.

Accession Number: 20080703-0067.

Comment Date: 5:00 p.m. Eastern Time on Monday, July 14, 2008.

Any person desiring to intervene or to protest in any of the above proceedings must file in accordance with Rules 211 and 214 of the Commission's Rules of Practice and Procedure (18 CFR 385.211 and 385.214) on or before 5:00 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed docket(s). For assistance with any FERC Online service, please email FERCOnlineSupport@ferc.gov. or call (866) 208-3676 (toll free). For TTY, call (202) 502-8659.

Nathaniel J. Davis, Sr.,
Deputy Secretary.

[FR Doc. E8-15612 Filed 7-9-08; 8:45 am]

BILLING CODE 6717-01-P